DEPARTMENT OF TRANSPORTATION

Surface Transportation Board

[Finance Docket No. 27590 (Sub-No. 2)]

TTX Company, et al.—Application for Approval of the Pooling of Car Service With Respect to Flat Cars

AGENCY: Surface Transportation Board.

ACTION: Decision.

SUMMARY: In 1994, the Interstate Commerce Commission (ICC), the predecessor to the Surface Transportation Board (Board), granted TTX Company (TTX) a 10-year extension of its authority to pool rail cars, subject to the ICC's continuing monitoring during the term of TTX's extension. In July 2001, the Board invited comments from interested parties on whether any of TTX's activities require oversight action by the Board. Because no comments were filed, the Board is taking no further action and is discontinuing its monitoring during the remainder of TTX's 10-year term.

EFFECTIVE DATE: This decision will be effective on its date of service.

FOR FURTHER INFORMATION CONTACT: Melvin F. Clemens, Jr., (202) 565-1573. [TDD for the hearing impaired: 1-800-877-8339.]

SUPPLEMENTARY INFORMATION: In 1989, after reviewing anticompetitive concerns by the United States Department of Justice and other parties, the ICC granted the request by TTX for an extension of its pooling authority, but for only a 5-year term.¹ In its decision, the ICC also subjected TTX to a number of new operating restrictions and imposed a monitoring and annual reporting requirement on the pool. In 1994, prior to the expiration of the 5-year term, the ICC granted TTX a 10-year extension of its pooling authority, approved TTX's request for limited authority to assign rail cars, and continued monitoring by requiring the ICC's Office of Compliance and Enforcement (OCE) to report on any operational concerns at the end of the third and seventh years of the 10-year term.²

¹ This extension of pooling authority was approved in Trailer Train Co., Et Al.—Pooling—Car Service, 5 I.C.C.2d 552 (1989).

² See TTX Company, Et Al.—Application For Approval of the Pooling of Car Service With Respect to Flat Cars, Finance Docket No. 27590 (Sub-No. 2) (ICC served Aug. 31, 1994).

Pursuant to the ICC Termination Act of 1995, Pub. L. No. 104-88, 109 Stat. 803 (1995) (ICCTA), effective January 1, 1996, the ICC was abolished; a number of its functions were eliminated; and its remaining rail and certain non-rail functions were transferred to the Board, newly established under the ICCTA. Because authority over TTX's pooling arrangement has been transferred to the Board, it is responsible for monitoring TTX's activities. To carry out that responsibility, during the third year of TTX's 10-year extension of pooling authority, in March 1997, the Board requested comments on whether any of TTX's activities required action or particular oversight by the Board. Because no party filed comments expressing concerns about TTX's activities, the Board took no action at that time.³ During the seventh year of the extension, on July 31, 2001, the Board again requested comments on whether any action by the Board was necessary. Because again no comments were filed expressing any concerns about TTX's activities, the Board is taking no further action and is discontinuing further monitoring during the remainder of the 10-year extension of TTX's pooling authority.

³ See TTX Company, Et Al.—Application For Approval of the Pooling of Car Service With Respect to Flat Cars, Finance Docket No. 27590 (Sub-No. 2) (STB served Aug. 7, 1997).

Environment

This action will not significantly affect either the quality of the human environment or the conservation of energy resources.

It is ordered:

1. Further action by the Board to monitor TTX's activities is not required. Monitoring during the remainder of the 10-year term of the pooling authority is discontinued.

2. This decision is being served on all parties appearing on the service list in Finance Docket No. 27590 (Sub-No. 2).

3. This decision is effective on the service date.

Decided: October 31, 2001.
By the Board, Chairman Morgan, Vice Chairman Clyburn, and Commissioner Burkes.
Vernon A. Williams,
Secretary.

[FR Doc. 01-27825 Filed 11-6-01; 8:45 am]

BILLING CODE 4915-00-P